OFFICE OF THE UNITED STATES TRADE REPRESENTATIVE

Procedures for Consideration of New Requests for Exclusion of Particular Products From Actions With Regard to Certain Steel Products Under Section 203 of the Trade Act of 1974, as Established in Presidential Proclamation 7529 of March 5, 2002

AGENCY: Office of the United States Trade Representative.

ACTION: Notice.

SUMMARY: Presidential Proclamation 7529 of March 5, 2002 established actions under section 203 of the Trade Act of 1974, as amended, (19 U.S.C. 2253) (safeguard measures) with regard to certain steel products, and authorized the United States Trade Representative (USTR) to further consider requests for exclusion of particular products from the safeguard measure that had been submitted in accordance with a Federal Register notice published on October 26, 2001 (66 FR 54321). In a notice published on April 18, 2002, USTR established procedures for further consideration of such requests and provided that, to the extent possible, it would consider new exclusion requests submitted after the time period specified in the Notice. This notice sets out the procedures for submitting new exclusion requests.

EFFECTIVE DATE: May 21, 2002.

FOR FURTHER INFORMATION CONTACT: Office of Industry, Office of the United States Trade Representative, 600 17th Street, NW, Room 501, Washington DC 20508. Telephone (202) 395-5656.

SUPPLEMENTARY INFORMATION: On October 22, 2001, the U.S. International Trade Commission (ITC) issued affirmative determinations under section 202(b) of the Trade Act (22 U.S.C. 2252(b)) that (1) carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; and (8) stainless steel rod are being imported in such increased quantities as to be a substantial cause of serious injury, or the threat thereof, to the domestic industries producing those products. The Commissioners voting were equally divided with respect to the determination under section 202(b) of the Trade Act as to whether increased imports of (9) carbon and alloy tin mill products; (10) tool steel, all forms; (11) stainless steel wire; and (12) stainless steel flanges and fittings are being imported in such increased quantities as to be a substantial cause of serious injury, or the threat thereof, to the domestic industries producing those products.

On October 26, 2001, the Trade Policy Staff Committee (TPSC) published a Federal Register notice that requested comments on what action the President should take under section 203 of the Trade Act, including any exclusion requests. The TPSC received more than 200 requests, covering approximately 1000 particular products. Each request was assigned a tracking number, beginning with an X (the X number), and posted on the USTR website, http://www.ustr.gov/sectors/industry/steel201/exclusion_requests.htm.

On March 5, 2002, the President issued Proclamation 7529, which established safeguard measures in the form of increases in duty and a tariff-rate quota pursuant to section 203 of the Trade Act on imports of ten steel products described in paragraph 7 of that proclamation. Effective with respect to goods entered, or withdrawn from warehouse for consumption, on or after 12:01 a.m., EST, on March 20, 2002, Proclamation 7529 modifies the HTS so as to provide for such increased duties and a tariff-rate quota. Proclamation 7529 also delegated to the USTR the authority to further consider exclusion requests submitted in accordance with the procedures set out in the Notice and, upon publication in the Federal Register of a notice of his finding that a particular product should be excluded, to modify the HTS provisions created by the Annex to that proclamation to exclude such particular product from the pertinent safeguard measure. USTR published a notice in 67 FR 16484 (April 5, 2002), excluding certain particular products from the safeguard measure.

On April 18, 2002, USTR published a notice in the Federal Register informing interested persons of the need for additional information with regard to both previously submitted exclusion requests and previously submitted oppositions to those requests. It instructed interested persons to provide this information in response to questionnaires available on the websites of USTR and the U.S. Department of Commerce. The notice provided further that, to the extent possible, USTR would consider requests for exclusion of products that have not received an X number. It asked interested persons requesting the exclusion of such a product to respond to the questionnaire before May 20, 2002, and indicated that procedures for submitting such additional requests for exclusion will be announced in a subsequent Federal Register notice.

USTR, in conjunction with the U.S. Department of Commerce, has developed a series of questions designed to elicit information for products that have not been excluded from the remedy and currently are not subject to reconsideration requests. The information required clearly identifies the product under consideration and provides detailed information on the requestor's situation. These questions, presented in the form of a new exclusion request questionnaire, are available on the USTR and Commerce Department websites at http://ia.ita.doc.gov/steel/exclusion/. Parties applying for an exclusion of their product from the remedy should provide responses to this questionnaire by May 20, 2002.

USTR, in conjunction with the Commerce Department, has developed a series of questions designed to substantiate any objections to these new requests for exclusion. These questions, presented in the form of an objector questionnaire, will be available on the USTR and Commerce Department websites at http://ia.ita.doc.gov/steel/exclusion/. Interested persons should submit a complete objector questionnaire at a date to be determined and announced shortly.

If a complete response to the new exclusion request questionnaire with regard to a particular product has not been received by the date indicated above, USTR may disregard the exclusion request for that product. To ensure that an interested party's position is considered in the context of the exclusion request, a complete response to the objector questionnaire should be submitted no later than the due date, which will be determined and announced shortly.

Each request will be evaluated on a case-by-case basis. USTR will grant only those exclusions that do not undermine the objectives of the safeguard measures. In analyzing the requests, USTR will consider whether the product is currently being produced in the United States, whether substitution of the product is possible, whether qualification requirements affect the requestor's ability to use domestic products, inventories, whether the requested product is under development by a U.S. producer who will imminently be able to produce it in commercial quantities and any other relevant factors. Where necessary, USTR and/or the Commerce Department will meet with parties to discuss the information that was submitted and/or to gain additional information.

Every effort will be made to process requests as soon as possible consistent with resources and the quality of information that is received.

Proclamation 7529 also authorizes USTR to exclude particular products from the safeguard measures in March of any year in which a safeguard measure remains in effect. To the extent possible, information submitted in accordance with this notice will be used in the evaluation of whether to grant additional exclusions pursuant to this authority, so as to avoid repetitive submission of information.

Submission of Requests for Exclusion and Opposition to Requests for Exclusion

Parties should follow the instructions posted on the USTR and Commerce Department web sites at http://ia.ita.doc.gov/steel/exclusion/. Failure to follow the instructions posted there may result in rejection of the questionnaire submission.

After new exclusion request questionnaires have been received, the Commerce Department will assign an alpha-numeric designator such as “N299.3” assigned to the requested product. Requestors will be notified of the assigned alpha-numeric designator for each product as soon as possible after receipt of the submission. All parties must use this alpha-numeric designator in every subsequent reference to that exclusion request.

We strongly discourage the submission of business confidential information. Any questionnaire response that contains business confidential information must be accompanied by six copies of a public summary that does not contain business confidential information, and a diskette containing an electronic version of the public summary. Any paper submission and diskette containing business confidential information must be clearly marked “Business Confidential” at the top and bottom of the cover page (or letter) and each succeeding page of the submission, and on the label of the diskette. The version that does not contain business confidential information should also be clearly marked, at the top and bottom of each page, “public version” or “nonconfidential,” and on the label of the diskette.

Paperwork Reduction Act

This notice contains a collection of information provision subject to the Paperwork Reduction Act (PRA) that the Office of Management and Budget (OMB) has approved. Notwithstanding any other provision of law, no person is required to respond to nor shall a person be subject to a penalty for failure to comply with a collection of information subject to the requirements of the PRA unless that collection of information displays a currently valid OMB number. This notice's collection of information burden is only for those persons who wish voluntarily to request the exclusion of a product from the safeguard measures. USTR has submitted the new exclusion request questionnaire to OMB for approval under the Paperwork Reduction Act. It is expected that the collection of information burden will be no more than 20 hours. This collection of information contains no annual reporting or record keeping burden. Please send comments regarding the collection of information burden or any other aspect of the information collection to USTR at the address above.

Robert B. Zoellick,
United States Trade Representative.

[FR Doc. 02-12624 Filed 5-20-02; 8:45 am]

BILLING CODE 3190-01-P